DEPARTMENT OF DEFENSE

Department of the Navy

Notice of Intent To Prepare an Environmental Impact Statement for Outdoor Research, Development, Testing & Evaluation Activities at Naval Surface Warfare Center, Dahlgren Site, King George County, VA and To Announce Public Scoping Meetings

AGENCY: Department of the Navy, DoD.

ACTION: Notice.

SUMMARY: Pursuant to Section (102)(2)(c) of the National Environmental Policy Act (NEPA) of 1969, and the regulations implemented by the Council on Environmental Quality (40 CFR parts 1500-1508), the Department of the Navy (Navy) announces its intent to prepare an Environmental Impact Statement (EIS) to evaluate the potential environmental consequences of expanding Naval Surface Warfare Center Dahlgren Site's (NSWCDL) research, development, test and evaluation (RDT&E) activities taking place outdoors on the Potomac River Test Range Complex, the Explosives Experimental Area, and Mission Areas. RDT&E activities are conducted in support of NSWCDL's mission requirements in surface warfare, surface ship combat systems, strategic systems, ordnance, and special warfare systems. These activities include outdoor operations that require the use of ordnance, lasers, electromagnetic fields, and chemical and biological simulants (imitations).

DATES AND ADDRESSES: Public scoping meetings will be held in King George, Westmoreland, and Northumberland counties, Virginia, and Charles and St. Mary's counties, Maryland, to receive oral and written comments on environmental concerns that should be addressed in the EIS. The public scoping meetings will be held at the following dates, times, and locations:

1. July 23, 2007, 5 p.m.-7 p.m., Shiloh Baptist Church, 13457 Kings Highway, King George, VA.

2. July 24, 2007, 6 p.m.-8 p.m., Christ Episcopal Church, 37497 Zach Fowler Road, Chaptico, MD.

3. July 25, 2007, 5 p.m.-7 p.m., LaPlata Volunteer Fire Department, 911 Washington Street, LaPlata, MD.

4. July 30, 2007, 6 p.m.-8 p.m., Saint Mary's Episcopal Church, 203 Dennison Street, Colonial Beach, VA.

5. July 31, 2007, 6 p.m.-8 p.m., Callao Rescue Squad Hall, 1348 Northumberland Highway, Callao, VA.

Anyone requiring special accommodations, such as a sign language interpreter, should contact Stacia Courtney, NSWCDL Public Affairs Office, by calling 540-653-8154 or by e-mailing stacia.courtney@navy.mil no later than three business days prior to the public meeting you wish to attend.

FOR FURTHER INFORMATION CONTACT: Ms. Stacia Courtney, Naval Surface Warfare Center Dahlgren Division, Corporate Communications Office (C6), 6509 Sampson Road, Suite 213, Dahlgren, VA 22448-5108; phone 540-653-8154; fax 540-653-4679; e-mail: stacia.courtney@navy.mil.

SUPPLEMENTARY INFORMATION: The Action Proponent, NSWCDL, currently conducts outdoor RDT&E activities on the Potomac River Test Range (PRTR) Complex, the Explosives Experimental Area (EEA), and adjoining Mission Areas. The environmental consequences of conducting these activities to date have been addressed on a test-by-test or program-by-program basis, which can lead to delays in carrying out RDT&E activities.

The Proposed Action is to expand NSWCDL's RDT&E capabilities within the PRTR, the EEA, and Mission Areas. The purpose is to enable NSWCDL to meet mission-related warfare and force protection requirements by providing RDT&E for ordnance, surface ship combat systems, force level warfare, and force protection operations. The need for the Proposed Action is to enable the Navy and other stakeholders to successfully meet current and future national and global defense challenges by developing a robust capability to carry out assigned RDT&E activities on NSWCDL's PRTR, EEA, and Mission Areas.

At this point in the planning process, NSWCDL foresees evaluating the impacts of three alternatives in the EIS. The No Action Alternative describes existing baseline RDT&E mission activities and includes documentation for such activities. The No Action Alternative addresses past and current mission activities within NSWCDL's PRTR, EEA and Mission Areas. Alternative 1 includes existing baseline mission activities, as well as future RDT&E mission activities to satisfy known workload requirements over approximately the next seven years. Alternative 1 provides for an increase in the number of RDT&E mission activities as well as new applications of existing technology. Alternative 2 includes existing baseline RDT&E mission activities, known future RDT&E mission activities over approximately the next seven years, and projected increases in test activities over approximately the next 15 years, based on a continual trend. Alternative 2 generally provides for a 15 percent increase in the number of mission activities above Alternative 1 levels plus new applications of existing technology.

The EIS will evaluate the potential environmental effects resulting from the identified alternatives. Issues to be addressed will include, but may not be limited to, the following areas: (1) Land use, plans, and coastal zone consistency; (2) Physical resources—air quality and water quality; (3) Noise from detonations and the firing of guns; (4) Biological resources including wildlife, submerged aquatic vegetation, threatened & endangered species and otherwise protected species (short-nosed sturgeon, marine mammals and migratory birds), fisheries, including an analysis of essential fish habitat, riverine communities, and special biological resource areas; (5) Socioeconomic issues—including recreational and commercial uses of the Potomac River and restricted airspace, property values, environmental justice, and risks to children; (6) Cultural resources—effects on sites on or near the Potomac River; (7) Safety—cleanup, handling, storage, and transport of hazardous materials, unexploded ordnance, lasers, electromagnetic fields, and chemical and biological simulants (imitations).

The Navy is initiating the scoping process to identify community concerns and local issues that should be addressed in the EIS. Federal, state, and local agencies as well as interested persons are encouraged to provide oral and/or written comments to NWSCDL to identify specific issues or topics of environmental concern. The Navy will consider these comments in determining the scope of the EIS. Written comments on the scope of the EIS must be postmarked by August 14, 2007, and should be mailed to: Ms. Stacia Courtney, Naval Surface Warfare Center Dahlgren Division, Corporate Communications Office (C6), 6509 Sampson Road, Suite 213, Dahlgren, VA 22448-5108. Comments can be faxed to 540-653-4679 or e-mailed to stacia.courtney@navy.mil.

Dated: 11 June 2007.
L.R. Almand,
Office of the Judge Advocate General, U.S. Navy, Administrative Law Division, Federal Register Liaison Officer.

[FR Doc. E7-11674 Filed 6-15-07; 8:45 am]

BILLING CODE 3810-FF-P